DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: For-Hire Telephone Survey.

OMB Control Number: 0648-0709.

Form Number(s): None.

Type of Request: Regular (extension of a currently approved information collection).

Number of Respondents: 33,923.

Average Hours per Response: 3 minutes, 30 seconds.

Burden Hours: 1,283.

Needs and Uses: This request is for extension of a currently approved information collection. The For-Hire Telephone Survey (FHTS) is conducted for the National Marine Fisheries Service (NMFS) to estimate fishing effort and catch on for-hire vessels (i.e., charter boats and head boats). These data are required to carry out provisions of the Magnuson-Stevens Fishery Conservation and Management Act (16 U.S.C. 1801 et seq.), as amended, regarding conservation and management of fishery resources.

NOAA Fisheries designed and implemented the FHTS to collect fishing effort information from for-hire vessel representatives through log sheet submission, the internet, or by telephone interview. For-hire vessels are randomly selected for the FHTS from a comprehensive sample frame developed and maintained by NMFS. A sample of 10% of the vessels on the FHTS frame are selected for reporting each week. Each interview collects information about the vessel, the number and type of trips the vessel made during the reporting week, the number of anglers on each trip, and other trip-level information.

Affected Public: Individuals or households; business or other for-profit organizations.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 31, 2017.
Sarah Brabson,
NOAA PRA Clearance Officer.

[FR Doc. 2017-23949 Filed 11-2-17; 8:45 am]

BILLING CODE 3510-22-P